ENVIRONMENTAL PROTECTION AGENCY

[ER-FRL-6659-5]

Environmental Impact Statements; Notice of Availability

Responsible Agency: Office of Federal Activities, General Information (202) 564-7167 or http://www.epa.gov/compliance/nepa/.

Weekly receipt of Environmental Impact Statements

Filed January 3, 2005, through January 7, 2005

Pursuant to 40 CFR 1506.9.

EIS No. 050000, DRAFT EIS, AFS, UT, Ogden Ranger District Travel Plan, To Update the Travel Management Plan, Wasatch-Cache National Plan, Ogden Ranger District, Box Elder, Cache, Morgan, Weber and Rich Counties, UT, Comment Period Ends: February 28, 2005, Contact: Rick Vallejos (801) 625-5112.

EIS No. 050001, FINAL EIS, FHW, NJ, Penns Neck Area Transportation Service Improvements, Phase I Archeological Survey, U.S. 1, Sections 2S and 3J, Funding, West Windsor and Princeton Townships, Mercer County, and Plainsboro Township, Middlesex County, NJ, Wait Period Ends: February 14, 2005, Contact: Young Kim (609) 637-4233.

EIS No. 050002, DRAFT SUPPLEMENT, NPS, WA, Elwha River Ecosystem Restoration Implementation Project, Updated Information, Olympic Peninsula, Challam County, WA, Comment Period Ends: March 15, 2005, Contact: Brian Winter (360) 565-1320.

EIS No. 050003, FINAL EIS, AFS, MT, Gallatin National Forest, Main Boulder Fuels Reduction Project, Implementation, Gallatin National Forest, Big Timber Ranger District, Big Timber, Sweetgrass and Park Counties, MT, Wait Period Ends: February 14, 2005, Contact: Barbara Ping (406) 522-2570.

EIS No. 050004, FINAL EIS, SFW, WA, ID, OR, CA, Caspian Tern (sterna caspia) Management to Reduce Predation of Juvenile Salmonids in the Columbia River Esturary, To Comply with the 2002 Settlement Agreement, Endangered Species Act (ESA), Columbia River, WA, OR, ID and CA, Wait Period Ends: February 14, 2005, Contact: Nanette Seto (503) 231-6164.

EIS No. 050005, DRAFT EIS, BLM, UT, Vernal Field Office Resource Management Plan, To Revise and Integrate the Book Cliff and Diamond Mountain Resource Management Plan, Daggett, Duchesne, Uintah and Grand Counties, UT, Comment Period Ends: April 14, 2005, Contact: Jerry Kenczka (435) 781-4440.

EIS No. 050006, DRAFT EIS, FHW, MO, Interstate 70 Corridor Improvements, Section of Independent Utility #4, from Missouri Route BB Interchange to Eastern Columbia, Funding, Boone County, MO, Comment Period Ends: March 28, 2005, Contact: Don Neumann (573) 636-7104.

EIS No. 050007, DRAFT EIS, FHW, MO, Interstate 70 Corridor Improvements, Section of Independent Utility #7, a 40-Mile Portion of the I-70 Corridor from just West of Route 19 (milepost 174) to Lake St. Louis Boulevard (milepost 214), Montgomery, Warren, St. Charles Counties, MO, Comment Period Ends: March 28, 2005, Contact: Don Neumann (573) 636-7104.

EIS No. 050008, DRAFT SUPPLEMENT, NPS, CA, Merced Wild and Scenic River Revised Comprehensive Management Plan, Amend and Supplement Information, Yosemite National Park, El Portal Administrative Site, Tuolume, Merced, Mono, Mariposa and Madera Counties, CA, Comment Period Ends: March 22, 2005, Contact: Amy Schneckenberner (209) 379-1026.

EIS No. 050009, FINAL SUPPLEMENT, NOA, Monkfish Fishery Management Plan (FMP) Amendment 2, Implementation, Proposes Measures to Address a Wide Range of Management Issues, New England and Mid-Atlantic, Wait Period Ends: February 14, 2005, Contact: Paul Howard (978) 465-0492.

EIS No. 050010, FINAL EIS, BLM, OR, Upper Deschutes Resource Management Plan, Implementation, Deschutes, Klamath, Jefferson and Cook Counties, OR, Wait Period Ends: February 14, 2005, Contact: Mollie Chaudet (541) 416-6700.

Amended Notices

EIS No. 040555, DRAFT EIS, NPS, TX, Big Thicket National Preserve Oil and Gas Management Plan, Implementation, Hardin, Jefferson, Orange, Liberty, Tyler, Jasper and Polk Counties, TX, Comment Period Ends: March 10, 2005, Contact: Linda Dansby (505) 988-6095. Revision of FR Notice Published on 12/10/04: CEQ Comment Period Ending 02/08/2005 has been Extended to 03/10/2005.

Dated: January 11, 2005.
Robert W. Hargrove,
Director, NEPA Compliance Division, Office of Federal Activities.

[FR Doc. 05-818 Filed 1-13-05; 8:45 am]

BILLING CODE 6560-50-P